DEPARTMENT OF ENERGY

Federal Energy Regulatory Commission

[Docket No. CP01-79-00]

ANR Pipeline Company; Notice of Intent To Prepare an Environmental Assessment for the Proposed Badger Pipeline Project and Request for Comments on Environmental Issues

March 15, 2001.

The staff of the Federal Energy Regulatory Commission (FERC or Commission) will prepare an environmental assessment (EA) that will discuss the environmental impacts of the Badger Pipeline Project involving construction and operation of facilities by ANR Pipeline Company (ANR) in Racine and Kenosha Counties, Wisconsin.¹ These facilities consist of about 22.3 miles of 20-inch-diameter pipeline, valves, a meter station, crossover piping, and pig trap launcher/receiver assemblies. The EA will be used by the Commission in its decision-making process to determine whether the project is in the public convenience and necessity.

¹ ANR's application was filed with the Commission on February 1, 2001, under Section 7 of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice ANR provided to landowners. This fact sheet addresses a number of typically asked questions, including the use of eminent domain and how to participate in the Commission's proceedings. It is available for viewing on the FERC Internet website (www.ferc.fed.us).

Summary of the Proposed Project

ANR is proposing the Badger Pipeline Project to provide 210,000 Mcfd of gas to Badger Generating Company, LLC's (Badger) proposed 1,050 megawatt gas-fired power plant to be constructed in the Village of Pleasant Prairie in Kenosha County, Wisconsin. To serve Badger's needs, ANR proposes to construct the following new facilities:

• about 12.8 miles of 20-inch-diameter pipeline loop ² along ANR's existing 10- and 12-inch-diameter Racine Laterals between Mainline Valve No. 8 (milepost (MP) 0.0) in Burlington Township, Racine County and the existing Somers Meter Station (MP 12.8) in Paris township, Kenosha County;

² A loop is a segment of pipeline that is installed adjacent to an existing pipeline and connected to it on both ends. The loop allows more gas to be moved through the pipeline system.

• about 9.5 miles of 20-inch-diameter pipeline lateral ³ would be located adjacent to existing rights-of-way (gas pipelines, a 345 kV electric transmission line, and the Chicago, Milwaukee, St. Paul and Pacific Railroad) between the Somers Meter Station (MP 12.8) and the proposed Badger Plant (MP 22.3) in Pleasant Prairie Township, Kenosha County; and

³ A lateral is a pipeline which branches away from the central or primary part of the pipeline system.

• aboveground facilities consisting of a pig trap/launcher assembly at the tie-in of the proposed pipeline (MP 0.0); a mainline valve and crossover piping at the existing Somers Meter Station (MP 12.8); and a meter station, valve, and pig trap/receiver assembly to be located at the proposed Badger Plan site (MP 22.3).

The general location of ANR's proposed facilities is shown on the map attached as appendix 1.⁴

⁴ The appendices referenced in this notice are not being printed in the Federal Register. Copies are available on the Commission's website at the “RIM” link or from the Commission's Public Reference and Files Maintenance Branch, 888 First Street, NE, Room 2A, Washington, DC 20426, or call (202) 208-1371. For instructions on connecting to RIMS refer to the last page of this notice. Copies of the appendices were sent to all those receiving this notice in the mail.

Land Requirements for Construction

Construction of ANR's proposed pipeline loop and lateral would require about 212.5 acres of land. ANR proposes to use a 75-foot wide construction right-of-way, and retain a 50-foot wide permanent pipeline right-of-way. Total land requirements for the permanent right-of-way would be about 135.2 acres. Construction of the proposed aboveground facilities would affect about 1.9 acres of land and permanent operation of these facilities would require about 1.2 acres of land. All temporary work space would be allowed to revert to its original land use. Twelve existing private roads are proposed for access to the proposed pipeline corridor during the construction of the pipeline loop and lateral. Two existing commercial/industrial facility sites, one about 8 acres in size and the other about 10 acres in size, have been identified for use as contractor staging yards during construction.

The EA Process

The National Environmental Policy Act (NEPA) requires the Commission to take into account the environmental impacts that could result from an action whenever it considers the issuance of a Certificate of Public Convenience and Necessity. NEPA also requires us to discover and address concerns the public may have about proposals. We call this “scoping.” The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

The EA will discuss impacts that could occur as a result of the construction and operation of the proposed project under these general headings:

• geology and soils

• water resources and wetlands

• vegetation and wildlife

• threatened and endangered species

• cultural resources

• land use

• reliability and safety

We will evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section beginning on page 5.

Currently Identified Environmental Issues

We have already identified several issues that we think deserve attention based on a preliminary view of the proposed facilities and the environmental information provided by ANR. This preliminary list of issues may be changed based on your comments and our analysis.

• Water Resources and Wetlands

—Crossing 7 perennial and 5 intermittent streams.

—Crossing 18 wetlands, including 0.5 acre of forested wetland.

• Vegetation

—About 2.3 acres of upland forest to be cleared.

—Potential impact on Federal- and State-listed endangered eastern prairie fringed orchid.

• Cultural Resources

—One site may be eligible for the National Register of Historic Places.

—Potential impacts to 19 Native American and one 19th century Euro-American sites.

• Soils About 19.2 miles of the pipeline right-of-way have soils with a high potential for compaction. Crossing about 15.4 miles of prime farmland.

• Land Use

— Impact on residential areas (7 residences within 50 feet of the construction work area for the proposed pipeline loop and 13 residences within 50 feet of the construction work area for the proposed pipeline lateral).

— Crossing two recreational areas, a golf course, and a correctional facility.

Public Participation

You can make a difference by providing us with your specific comments or concerns about the project. By becoming a commentor, your concerns will be addressed in the EA and considered by the Commission. You should focus on the potential environmental effects of the proposal, alternatives to the proposal (including alternative locations or routes), and measures to avoid or lessen environmental impact. The more specific you comments, the more useful they will be. Please carefully follow these instructions to ensure that your comments are received in time and properly recorded:

• Send an original and two copies of your letter to: David P. Boergers, Secretary, Federal Energy Regulatory Commission, 888 First St., N.E., Room 1A, Washington, DC 20426;

• Label one copy of the comments for the attention of Gas 1, PJ-11.1;

• Reference Docket No. CP01-79-000; and

• Mail your comments so that they will be received in Washington, DC on or before April 16, 2001.

Comments, protests and interventions may also be filed electronically via the Internet in lieu of paper. See 18 CFR 385.2001(a)(1)(iii) and the instructions on the Commission's web site at http://www.ferc.fed.us/efi/doorbell.htm under the link to the User's Guide. Before you can file electronically you will need to create an account which can be created by clicking on “Login to File” and then “New User Account.”

If you do not want to send comments at this time but still want to remain on our mailing list, please return the Information Request (appendix 3). If you do not return the Information Request, you will be removed from the environmental mailing list.

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status showing good cause by stating that they have a clear and direct interest in this proceeding which would not be adequately represented by any other parties. You do not need intervenor status to have your environmental comments considered.

Additional information about the proposed project is available from the Commission's Office of External Affairs at (202) 208-1088 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 01-6956 Filed 3-20-01; 8:45 am]

BILLING CODE 6717-01-M